DEPARTMENT OF JUSTICE

Drug Enforcement Administration

Importer of Controlled Substances; Notice of Registration

By notice dated June 7, 2002, and published in the Federal Register on June 20, 2002 (67 FR 42060), Penick Corporation, 158 Mount Olivet Avenue, Newark, New Jersey 07114, made application by renewal to the Drug Enforcement Administration (DEA) to be registered as an importer of Coca Leaves (9040) and Poppy Straw (9650) basic classes of controlled substances listed in Schedule II.

The firm plans to import the controlled substances to manufacture bulk pharmaceutical controlled substances and non-controlled substance flavor extract.

No comments or objections have been received. DEA has considered the factors in title 21, United States Code, section 823(a) and determined that the registration of Penick corporation to import these controlled substances is consistent with the public interest and with United States obligations under international treaties, conventions, or protocols in effect on May 1, 1971, at this time. DEA has investigated Penick Corporation on a regular basis to ensure that the company's continued registration is consistent with the public interest.

This investigation included inspection and testing of the company's physical security system, verification of the company's compliance with state and local laws, and a review of the company's background and history. Therefore, pursuant to section 1008(a) of the Controlled Substances Import and Export Act and in accordance with title 21, Code of Federal Regulations, section 1301.34 the above firm is granted registration as an importer of the basic classes of controlled substances listed.

Dated: April 3, 2003.
Laura M. Nagel,
Deputy Assistant Administrator, Office of Diversion Control, Drug Enforcement Administration.

[FR Doc. 03-9230 Filed 4-14-03; 8:45 am]

BILLING CODE 4410-09-M